DEPARTMENT OF THE INTERIOR

National Park Service

National Register of Historic Places; Notification of Pending Nominations and Related Actions

Nominations for the following properties being considered for listing or related actions in the National Register were received by the National Park Service before May 2, 2009. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by June 4, 2009.

J. Paul Loether,
Chief, National Register of Historic Places/National Historic Landmarks Program.

CALIFORNIA

El Dorado County

Wakamatsu Tea and Silk Colony Farm, 941 Cold Springs Rd., Gold Hill, 09000397

Los Angeles County

27th Street Historic District, (African Americans in Los Angeles) Along 27th St., Los Angeles, 09000399

52nd Place Historic District, (African Americans in Los Angeles) Along E. 52nd Pl., Los Angeles, 09000398

FLORIDA

Flagler County

Washington Oaks Historic District, 6402 Oceanshore Blvd., Palm Coast, 09000400

IOWA

Floyd County

Tyden Farm No. 6 Farmstead Historic District, 1145 300th St., Dougherty, 09000401

Polk County

Earle & LeBosquet Block, 407-409 Court Ave., Des Moines, 09000402

Hotel Randolph, 200-204 4th St., Des Moines, 09000403

Murillo Flats, 605 16th St., Des Moines, 09000404

Youngerman Block, 206-208 4th St., Des Moines, 09000405

MINNESOTA

Crow Wing County

Franklin Junior High School, 1001 Kingwood St., Brainerd, 09000406

Olmsted County

Benike Family Farmstead, 5209 Co. Rd. 21 NE., Elgin, 09000407

Ramsey County

Minnesota Building, 46 E. 4th St., Saint Paul, 09000408

MISSOURI

Chariton County

Salisbury Square Historic District, 402, 404, 406, 407, 408, 502, 504, 506, 508 S. Broadway, Salisbury, 09000409

St. Louis Independent city

Medart's, 7036 Clayton Ave., St. Louis, 09000410

Railway Exchange Building, 600 Locust St., St. Louis, 09000411

OHIO

Franklin County

Hayden Building, 20 E. Broad St., Columbus, 09000412

New Hayden Building, 16 E. Broad St., Columbus, 09000413

VIRGINIA

Floyd County

West Fork Furnace, VA 605, Floyd, 09000414

Fredericksburg Independent City

Idlewild, 1501 Gateway Blvd., Fredericksburg, 09000415

Louisa County

Shady Grove School, (Rosenwald Schools in Virginia MPS) 2925 Three Chpot Rd., Gum Spring, 09000416

Orange County

Chestnut Hill, 236 Caroline St., Orange, 09000417

South Boston Independent City

South Boston Historic District Boundary Increase, Neighborhoods of Marshall Ave., New Brick Warehouse, Mizpah Church, N. Main St., South Boston, 09000418

Request for REMOVAL has been made for the following resources:

OKLAHOMA

Washington County

Civic Center, Johnstone Ave. between 6th St. and Adams Blvd., Bartlesville, 89002122

TEXAS

Hunt County

Blanton School, 610 Witt St., Wolfe City, 06000823

[FR Doc. E9-11555 Filed 5-19-09; 8:45 am]

BILLING CODE P